ENVIRONMENTAL PROTECTION AGENCY

[EPA-HQ-OPPT-2003-0004; FRL-9987-71]

Access to Confidential Business Information by Science Applications International Corporation

AGENCY: Environmental Protection Agency (EPA).

ACTION: Notice.

SUMMARY: EPA has authorized its contractor Science Applications International Corporation (SAIC) of Reston, VA, to access information which has been submitted to EPA under all sections of the Toxic Substances Control Act (TSCA). Some of the information may be claimed or determined to be Confidential Business Information (CBI).

DATES: Access to the confidential data occurred on or about November 9, 2018.

FOR FURTHER INFORMATION CONTACT:

For technical information contact: Scott M. Sherlock, Environmental Assistance Division (7408M), Office of Pollution Prevention and Toxics, Environmental Protection Agency, 1200 Pennsylvania Ave., NW, Washington, DC 20460-0001; telephone number: (202) 564-8257; email address: sherlock.scott@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. This action may, however, be of interest to all who manufacture, process, or distribute industrial chemicals. Since other entities may also be interested, the Agency has not attempted to describe all the specific entities that may be affected by this action.

B. How can I get copies of this document and other related information?

The docket for this action, identified by docket identification (ID) number EPA-HQ-OPPT-2003-0004, is available at http://www.regulations.gov or at the Office of Pollution Prevention and Toxics Docket (OPPT Docket), Environmental Protection Agency Docket Center (EPA/DC), West William Jefferson Clinton Bldg., Rm. 3334, 1301 Constitution Ave. NW, Washington, DC. The Public Reading Room is open from 8:30 a.m. to 4:30 p.m., Monday through Friday, excluding legal holidays. The telephone number for the Public Reading Room is (202) 566-1744, and the telephone number for the OPPT Docket is (202) 566-0280. Please review the visitor instructions and additional information about the docket available at http://www.epa.gov/dockets.

II. What action is the Agency taking?

Under EPA contract number 47QTCK18D0001, order number 47QFPA19F0004, contractor SAIC of 12010 Sunset Hills Rd, Reston, VA is assisting the Office of Pollution Prevention and Toxics (OPPT) by providing support of the eChemView and New ChemRev Program; providing IT support for the development, maintenance and operation of EPA's Digital Analytics Program (EDAP); geospatial, analytic, and visualization tools; databases and data management; and application interfaces and services.

In accordance with 40 CFR 2.306(j), EPA has determined that under EPA contract number 47QTCK18D0001, order number 47QFPA19F0004, SAIC required access to sensitive but unclassified (SBU) information. The particular SBU that has been accessed is information identified as TSCA CBI. EPA has determined that SAIC will need access to TSCA CBI submitted to EPA under all sections of TSCA to perform successfully the duties specified under the contract. SAIC's personnel were given access to information claimed or determined to be CBI information submitted to EPA under all sections of TSCA.

EPA is issuing this notice to inform all submitters of information under all sections of TSCA that EPA has provided SAIC access to these CBI materials on a need-to-know basis only. All access to TSCA CBI under this contract is taking place at EPA Headquarters, in accordance with EPA's TSCA CBI Protection Manual.

Access to TSCA data, including CBI, will continue until October 31, 2019. If the contract is extended, this access will also continue for the duration of the extended contract without further notice.

SAIC's personnel have signed nondisclosure agreements and have been briefed on specific security procedures for TSCA CBI.

Authority: 15 U.S.C. 2601 et seq.

Dated: December 12, 2018.
Pamela S. Myrick,
Director, Information Management Division, Office of Pollution Prevention and Toxics.

[FR Doc. 2018-28293 Filed 12-27-18; 8:45 am]

BILLING CODE 6560-50-P